DEPARTMENT OF ENERGY

Federal Energy Regulatory Commission

Combined Notice of Filings #1

Take notice that the Commission received the following exempt wholesale generator filings:

Docket Numbers: EG21-43-000.

Applicants: Wolf Ridge Wind Energy, LLC.

Description: Notice of Self-Certification of Exempt Wholesale Generator Status of Wolf Ridge Wind Energy, LLC.

Filed Date: 12/1/20.

Accession Number: 20201201-5380.

Comments Due: 5 p.m. ET 12/22/20.

Docket Numbers: EG21-44-000.

Applicants: Blue Summit I Wind, LLC.

Description: Notice of Self-Certification of Exempt Wholesale Generator Status of Blue Summit I Wind, LLC.

Filed Date: 12/1/20.

Accession Number: 20201201-5381.

Comments Due: 5 p.m. ET 12/22/20.

Take notice that the Commission received the following electric rate filings:

Docket Numbers: ER10-3246-016; ER10-2474-022; ER10-2475-022; ER10-2984-049; ER13-1266-032; ER15-2211-029.

Applicants: PacifiCorp, Nevada Power Company, Sierra Pacific Power Company, CalEnergy, LLC, MidAmerican Energy Services, LLC, Merrill Lynch Commodities, Inc.

Description: Notice of Non-Material Change in Status of the BHE MBR Sellers and Merrill Lynch Commodities, Inc.

Filed Date: 12/1/20.

Accession Number: 20201201-5393.

Comments Due: 5 p.m. ET 12/22/20.

Docket Numbers: ER21-71-001.

Applicants: Florida Power & Light Company.

Description: Tariff Amendment: FPL & Seminole Amendment to Second Revised NITSA RS No. 162 to be effective 9/1/2018.

Filed Date: 12/2/20.

Accession Number: 20201202-5168.

Comments Due: 5 p.m. ET 12/23/20.

Docket Numbers: ER21-529-000.

Applicants: Consolidated Edison Company of New York, Inc.

Description: § 205(d) Rate Filing: DLM Filing December 2020 to be effective 12/1/2020.

Filed Date: 12/1/20.

Accession Number: 20201201-5326.

Comments Due: 5 p.m. ET 12/22/20.

Docket Numbers: ER21-530-000.

Applicants: Midcontinent Independent System Operator, Inc.

Description: § 205(d) Rate Filing: 2020-12-01_Schedule 49 Cost Allocation for RDT Payments to be effective 2/1/2021.

Filed Date: 12/1/20.

Accession Number: 20201201-5327.

Comments Due: 5 p.m. ET 12/22/20.

Docket Numbers: ER21-531-000.

Applicants: Southwest Power Pool, Inc.

Description: § 205(d) Rate Filing: 1885R10 Evergy Kansas Central, Inc. NITSA NOA—Bronson to be effective 9/1/2020.

Filed Date: 12/2/20.

Accession Number: 20201202-5009.

Comments Due: 5 p.m. ET 12/23/20.

Docket Numbers: ER21-532-000.

Applicants: Southwest Power Pool, Inc.

Description: § 205(d) Rate Filing: 1891R9 Evergy Kansas Central, Inc. NITSA NOA—Mulberry to be effective 9/1/2020.

Filed Date: 12/2/20.

Accession Number: 20201202-5012.

Comments Due: 5 p.m. ET 12/23/20.

Docket Numbers: ER21-533-000.

Applicants: Southwest Power Pool, Inc.

Description: § 205(d) Rate Filing: 1894R9 Evergy Kansas Central, Inc. NITSA NOA—Vermillion to be effective 9/1/2020.

Filed Date: 12/2/20.

Accession Number: 20201202-5025.

Comments Due: 5 p.m. ET 12/23/20.

Docket Numbers: ER21-534-000.

Applicants: Southwest Power Pool, Inc.

Description: § 205(d) Rate Filing: 1978R9 Evergy Kansas Central, Inc. NITSA NOA—Toronto to be effective 9/1/2020.

Filed Date: 12/2/20.

Accession Number: 20201202-5038.

Comments Due: 5 p.m. ET 12/23/20.

Docket Numbers: ER21-535-000.

Applicants: PJM Interconnection, L.L.C.

Description: § 205(d) Rate Filing: Original Service Agreement No. 5857; Queue No. AB2-180 to be effective 11/2/2020.

Filed Date: 12/2/20.

Accession Number: 20201202-5069.

Comments Due: 5 p.m. ET 12/23/20.

Docket Numbers: ER21-536-000.

Applicants: Montague Wind Power Facility, LLC.

Description: § 205(d) Rate Filing: Tariff Revision to be effective 2/1/2021.

Filed Date: 12/2/20.

Accession Number: 20201202-5088.

Comments Due: 5 p.m. ET 12/23/20.

Docket Numbers: ER21-537-000.

Applicants: PJM Interconnection, L.L.C.

Description: § 205(d) Rate Filing: Original ISA No. 5852; Queue No. AC2-079 to be effective 11/2/2020.

Filed Date: 12/2/20.

Accession Number: 20201202-5132.

Comments Due: 5 p.m. ET 12/23/20.

Docket Numbers: ER21-538-000.

Applicants: AEP Ohio Transmission Company, Inc., Ohio Power Company, American Electric Power Service Corporation, PJM Interconnection, L.L.C.

Description: § 205(d) Rate Filing: AEP submits ILDSA SA No. 1336 and Hatton FA to be effective 2/1/2021.

Filed Date: 12/2/20.

Accession Number: 20201202-5198.

Comments Due: 5 p.m. ET 12/23/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2020.
Kimberly D. Bose,
Secretary.

[FR Doc. 2020-26932 Filed 12-7-20; 8:45 am]

BILLING CODE 6717-01-P